Title 3—

The President

Presidential Determination No. 2023-07 of May 1, 2023

Unexpected Urgent Refugee and Migration Needs

Memorandum for the Secretary of State

By the authority vested in me as President by the Constitution and the laws of the United States of America, including section 2(c)(1) of the Migration and Refugee Assistance Act of 1962 (22 U.S.C. 2601(c)(1)) (MRAA), I hereby determine, pursuant to section 2(c)(1) of the MRAA, that it is important to the national interest to furnish assistance under the MRAA in an amount not to exceed $50.3 million from the United States Emergency Refugee and Migration Assistance Fund for the purpose of meeting unexpected urgent refugee and migration needs in the Western Hemisphere, including through contributions to international organizations by the Bureau of Population, Refugees, and Migration of the Department of State.

You are authorized and directed to submit this determination to the Congress, along with the accompanying Justification, and to publish this determination in the Federal Register.

THE WHITE HOUSE,

Washington, May 1, 2023

[FR Doc. 2023-09959

Filed 5-8-23; 8:45 am]

Billing code 4710-10-P